ENVIRONMENTAL PROTECTION AGENCY

[EPA-HQ-OAR-2008-0655; FRL-9106-2; EPA ICR No. 2349.01, OMB Control No. 2060-New]

Agency Information Collection Activities; Submission to OMB for Review and Approval; Comment Request; GreenChill Advanced Refrigeration Partnership

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before February 24, 2010.

ADDRESSES: Submit your comments, referencing Docket ID No. EPA-HQ-OAR-2008-0655 to (1) EPA online using http://www.regulations.gov (our preferred method), by e-mail to a-and-r-docket@epamail.epa.gov, or y mail to: EPA Docket Center, Environmental Protection Agency, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Keilly Witman, Environmental Protection Agency, Stratospheric Protection Division, Office of Air and Radiation, Mailcode: 6205J, 1200 Pennsylvania Ave., NW., Washington, DC 20460; telephone number: 202-343-9742; fax number: 202-343-2362; witman.keilly@epa.gov.

SUPPLEMENTARY INFORMATION: EPA has submitted the following ICR to OMB for review and approval according to the procedures prescribed in 5 CFR 1320.12. On June 3, 2009 (74 FR 26689) EPA sought comments on this ICR pursuant to 5 CFR 1320.8(d). EPA received no comments during the comment period. Any additional comments on this ICR should be submitted to EPA and OMB within 30 days of this notice.

EPA has established a public docket for this ICR under Docket ID No. EPA-HQ-OAR-2008-0655, which is available for online viewing at http://www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: GreenChill Advanced Refrigeration Partnership.

ICR numbers: EPA ICR No. 2349.01, OMB Control No. 2060-New.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The GreenChill Advanced Refrigeration Partnership (hereafter referred to as GreenChill Partnership or GreenChill) is an EPA cooperative alliance with the supermarket industry to promote advanced refrigeration technologies, strategies, and practices that reduce emissions of ozone-depleting and greenhouse gas refrigerants. A food retailer's decision to participate in the GreenChill Partnership is completely voluntary. After joining GreenChill by submitting a signed “Partnership Agreement,” food retailers are asked to submit a “Stocks and Emissions Report” to an independent third party. The form requires partners to provide corporate-wide, aggregated data on the stocks and emissions of all refrigerants used in commercial refrigeration and air conditioning appliances. The independent third party summarizes the information submitted by the food retailers, removes any identifying information, and sends a summary of the information to GreenChill. Partners are then asked to submit a “Corporate Refrigerant Management Plan” with their emissions reductions goals for the next year, along with a brief description of their plan to meet that goal (such as retrofitting old equipment, etc.). These two forms are necessary for GreenChill to track annual supermarket refrigerant emissions rates, allowing GreenChill and its food retail partners to benchmark partners' progress on reducing emissions. The partner emissions data is also the basis for the achievement awards that GreenChill gives out to its partners.

Burden Statement: The annual public reporting and recordkeeping burden for this collection of information is estimated to average 18.1 hours for the first year and 11 hours per year for the second and third years per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: GreenChill Food Retail Partners.

Estimated Number of Respondents: 17.

Frequency of Response: Annual.

Estimated Total Annual Hour Burden: 169.

Estimated Total Annual Cost: $1378.29 for the first year and $812.91 per year for the second and third years. This includes an estimated burden cost of $1367.86 and an estimated cost of $10.43 for capital investment or maintenance and operational costs for the first year and an estimated burden cost of $808.05 and an estimated cost of $4.86 for capital investment or maintenance and operational costs for the second and third years.

Dated: January 19, 2010.
John Moses,
Director, Collection Strategies Division.

[FR Doc. 2010-1362 Filed 1-22-10; 8:45 am]

BILLING CODE 6560-50-P